DEPARTMENT OF TRANSPORTATION

Federal Railroad Administration

[Docket Number FRA-2011-0094]

Petition for Waiver of Compliance

In accordance with part 211 of title 49 of the Code of Federal Regulations (CFR), this document provides public notice that by a document dated October 28, 2011, the Maryland Transit Administration (MTA) has petitioned the Federal Railroad Administration (FRA) for a waiver of compliance from certain provisions of the Federal railroad safety regulations contained at 49 CFR Section 213.329, Curves, elevation and speed limitations; Section 213.333, Automated vehicle inspection systems; and Section 213.345, Vehicle qualification testing. FRA assigned the petition Docket Number FRA-2011-0094.

MTA seeks a permanent waiver of compliance from the provisions of 49 CFR Sections 213.329, 213.333, and 213.345 as part of its recent purchase of 26 new model MP36PH-3C locomotives. These locomotives are intended for operation by MTA's Maryland Area Regional Commuter (MARC) train service on the National Railroad Passenger Corporation's (Amtrak) Northeast Corridor (NEC) at 100 mph and 4 inches cant deficiency. In MTA's previous waiver request, dated January 22, 2009, MTA sought relief from 49 CFR Section 213.345(b), which references 49 CFR Section 213.333. The waiver would allow MTA to test the MP36 locomotives with accelerometers, instead of instrumented wheelsets. MTA also indicated that it would use computer simulations to evaluate the wheel/rail forces for speeds and track geometry of the MARC route over the NEC.

In December 2010, during route testing in Maryland, the MP36PH-3C sustained carbody yaw oscillations that exceeded the carbody lateral acceleration limits described in FRA's Notice of Proposed Rulemaking (NPRM), as found in Docket Number FRA-2009-0036. In February 2011, MTA rescinded that waiver petition until a solution to the carbody yaw issue could be developed and implemented.

In its current waiver petition, MTA indicated that it has developed and implemented a solution to the sustained carbody yaw issue by modifying the MP36PH-3C locomotive truck, as detailed in Attachment 2 to the waiver petition. It also indicated that computer simulations using a valid computer model demonstrated that the modified MP36PH-3C locomotive complies with the wheel/rail forces and the truck and carbody acceleration limits contained in the NPRM for 49 CFR section 213.333.

A copy of the petition, as well as any written communications concerning the petition, is available for review online at http://www.regulations.gov and in person at the U.S. Department of Transportation's (DOT) Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: (202) 493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by February 10, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC on December 20, 2011.
Robert C. Lauby,
Deputy Associate Administrator for Regulatory and Legislative Operations.

[FR Doc. 2011-33047 Filed 12-23-11; 8:45 am]

BILLING CODE 4910-06-P